DEPARTMENT OF LABOR

Employment and Training Administration

[TA-W-82,680C; TA-W-82,680D]

Supermedia LLC, Publishing Operations Division, a Subsidiary of Dex Media Inc., Westerville, Ohio; Supermedia LLC, Publishing Operations Division, A Subsidiary of Dex Media Inc., Lexington, Kentucky; Amended Certification Regarding Eligibility To Apply for Worker Adjustment Assistance

In accordance with Section 223 of the Trade Act of 1974, as amended (“Act”), 19 U.S.C. 2273, on August 30, 2013, the Department of Labor (Department) issued a Notice of Revised Determination on Reconsideration regarding workers' eligibility to apply for Trade Adjustment Assistance (TAA) applicable to workers of SuperMedia LLC, Publishing Operations Division, Account Management Group (TA-W-82,680), Internet Publishing Operations Group (TA-W-82,680A) and Listing Management Group (TA-W-82,680B), a subsidiary of Dex Media Inc., St. Petersburg, Florida. The afore-mentioned worker groups are engaged in activities related to the supply of publishing, advertising and media services, and include on-site leased workers from TAC Worldwide Companies.

Following the issuance of the revised determination on reconsideration, the Department received a request from a separated worker to amend the certification to include workers at two affiliated facilities which operated in conjunction with the St. Petersburg, Florida facility: Westerville, Ohio (TA-W-82,680C) and Lexington, Kentucky (TA-W-82,680D).

During the amendment investigation, the Department received information that the afore-mentioned facilities operated in conjunction with the St. Petersburg, Florida facility, that the worker separations at the afore-mentioned facilities are related to a shift in the supply of services by the workers' firm to a foreign country, and that the worker groups covered by TA-W-82,680C and TA-W-82,680D do not include on-site leased workers. The amended notice applicable to TA-W-82,680 is hereby issued as follows:

All workers of SuperMedia LLC, Publishing Operations Division, a subsidiary of Dex Media Inc., Westerville, Ohio (TA-W-82,680C) and Lexington, Kentucky (TA-W-82,680D) who became totally or partially separated from employment on or after April 17, 2012 through August 30, 2015, and all workers in the group threatened with total or partial separation from employment on August 30, 2013 through August 30, 2015, are eligible to apply for adjustment assistance under Chapter 2 of Title II of the Trade Act of 1974, as amended.

Signed in Washington, DC, this 14th day of August, 2014.
Del Min Amy Chen,
Certifying Officer, Office of Trade Adjustment Assistance.

[FR Doc. 2014-21622 Filed 9-10-14; 8:45 am]

BILLING CODE 4510-FN-P